DEPARTMENT OF AGRICULTURE

Food and Nutrition Service

Agency Information Collection Activities: Proposed Collection; Comment Request—Senior Farmers' Market Nutrition Program (SFMNP)

AGENCY: Food and Nutrition Service (FNS), USDA.

ACTION: Notice.

SUMMARY: In accordance with the Paperwork Reduction Act of 1995, this notice invites the general public and other public agencies to comment on this proposed information collection. This is a renewal of the currently approved collection for the Senior Farmers' Market Nutrition Program (SFMNP).

DATES: Written comments must be received on or before March 18, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Donna Hines, Chief, Policy Branch, Supplemental Food Programs Division, Food and Nutrition Service, U.S. Department of Agriculture, 3101 Park Center Drive, Room 528, Alexandria, VA 22302. Comments may also be submitted via fax to the attention of Donna Hines at 703-305-2196 or via email to wichq-web@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 528, Alexandria, Virginia 22302.

All responses to this notice will be summarized and included in the request for Office of Management and Budget approval. All comments will be a matter of public record.

FOR FURTHER INFORMATION CONTACT: Requests for additional information or copies of this information collection should be directed to Donna Hines, Chief, Policy Branch, Supplemental Food Programs Division at 703-305-2746 or Donna.Hines@fns.usda.gov.

SUPPLEMENTARY INFORMATION:

Title: Senior Farmers' Market Nutrition Program (SFMNP).

Form Number: FNS 683A.

OMB Number: 0584-0541.

Expiration Date: March 3, 2013.

Type of Request: Renewal of a currently approved collection.

Abstract: Section 4231 of the Food, Conservation and Energy Act of 2008 (Pub. L. 110-246, also known as the Farm Bill) reauthorized the Senior Farmers' Market Nutrition Program (SFMNP) through fiscal year 2012; a prior law (the Farm Security and Rural Investment Act of 2002 (Pub. L. 107-171)) gave the Department of Agriculture the authority to promulgate regulations for the operation and administration of the SFMNP. These regulations are published at 7 CFR Part 249. The purposes of the SFMNP are to provide resources in the form of fresh, nutritious, unprepared, locally grown fruits, vegetables, honey and herbs from farmers' markets, roadside stands, and community supported agriculture (CSA) programs to low income seniors; to increase the domestic consumption of agricultural commodities by expanding or aiding in the expansion of domestic farmers' markets, roadside stands, and CSA programs; and to develop or aid in the development of new and additional farmers' markets, roadside stands, and CSA programs.

USDA published a final rulemaking on the SFMNP on December 6, 2006 (71 FR 74618), that contained an estimated information collection burden based on the rule's requirements for program operation and administration. The previous SFMNP information collection burden was approved by the Office of Management and Budget (OMB) for 3 years, effective March 2010, under RIN 0584-0541. The Department is now soliciting comments on the accuracy and reasonableness of the renewal of this estimated burden.

The estimated total annual Reporting and Recordkeeping burden is 465,319 hours. The estimated total burden is 32,459 hours lower than the previously approved collection burden. Several SFMNP State agencies reported a decrease in the number of participants served and number of authorized farmers' markets. See the table below for estimated total annual burden for each type of respondent.

Reporting Burden

Affected Public: Respondents include State agencies, local agencies, individuals/households (participants), and authorized SFMNP farms (farmers, farmers' markets, roadside stands, and CSA programs).

Estimated Number of Respondents: The total estimated number of respondents is 906,196. This includes: State agencies, local agencies, individuals/households (participants), and authorized SFMNP farms (farmers, farmers' markets, roadside stands, and CSA programs).

Estimated Number of Responses per Respondent: 1.

Estimated Total Annual Responses: 906, 196.

Estimated Time per Response: .263 hours.

Estimated Total Annual Burden on Respondents: 237,922 hours.

Recordkeeping Burden

Estimated Number of Recordkeepers: 900,255.

Respondents include: State and local agencies.

Estimated Number of Records per Respondent: 1.

Estimated Time per Recordkeeping: .253 hours.

Estimated Total Annual Burden on Respondents: 227,397.

Estimated Total Annual Reporting/Recordkeeping Requirements: 465,319 hours.

Regulation section | Title | Estimated number of respondents | Reports filed annually | Total annual response | Estimated hours/ response | Annual burden hours
Affected Public: STATE & LOCAL AGENCIES (Including Indian Tribal Organizations and US Territories)
Reporting
249.3(e) | Local Agency Applications | 510 | 1 | 510 | 2 | 1,020
249.4 | State Plan | 51 | 1 | 51 | 40 | 2,040
249.10(e) | Monitoring/review of outlets | 804 | 1 | 804 | 1.5 | 1,206
249.10(f) | Coupon/CSA management system | 51 | 1 | 51 | 5 | 255
249.10(h) | Coupon reconciliation | 51 | 1 | 51 | 3 | 153
249.11 | Financial management system | 51 | 1 | 51 | 10 | 510
249.12 | Prior Approval for costs per 7 CFR 3016.22 | 5 | 1 | 5 | 160 | 800
249.17(b)(2) | State agency corrective action plans | 12 | 1 | 12 | 10 | 120
249.18(b) | Audit responses | 12 | 1 | 12 | 15 | 180
249.23(b) | Financial/recipient reports | 51 | 1 | 51 | 40 | 2,040
Subtotal | (Reporting Requirements) | 1,598 |  | 1,598 | 5.20 | 8,324
Affected Public: INDIVIDUALS/HOUSEHOLDS (Applicants for Program Benefits)
Reporting
249.6 (a)(3) | Certification data for seniors | 900,000 | 1 | 900,000 | 0.25 | 225,000
Subtotal | (Reporting Requirements) | 900,000 |  | 900,000 |  | 225,000
Affected Public: Farms (Farmers/Markets/Roadside stands/CSA's)
Reporting
249.10(b) | Farmer applications & agreements | 4,598 | 1 | 4,598 | 1 | 4,598
Subtotal | (Reporting Requirements) | 4,598 |  | 4,598 |  | 4,598
Subtotal Reporting | 906,196 | 1 | 906,196 | .263 | 237,922
Affected Public: STATE & LOCAL AGENCIES (Including Indian Tribal Organizations and US Territories)
Recordkeeping
249.9 | Nutrition education | 900,000 | 1 | 900,000 | 0.25 | 225,000
249.10(b) | Authorized outlet agreements | 51 | 1 | 51 | 2 | 102
249.10(e) | Summary of authorized outlet monitoring | 51 | 1 | 51 | 2 | 102
249.11 | Record of financial expenditures | 51 | 1 | 51 | 2 | 102
249.16(a) | Fair hearings | 51 | 1 | 51 | 1 | 51
249.23(a) | Record of program operations | 51 | 1 | 51 | 40 | 2,040
Subtotal | (Recordkeeping Requirements) | 900,255 | 1 | 900,255 | .253 | 227,397
Total Burden | (Reporting & Recordkeeping) | 1,806,451 |  | 1,806,451 |  | 465,319

Dated: January 10, 2013.
Audrey Rowe,
Administrator, Food and Nutrition Service.

[FR Doc. 2013-00816 Filed 1-15-13; 8:45 am]

BILLING CODE 3410-30-P